FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 3504NF.

Name: Indo-China Express, Inc.

Address: 211 Tenth Street, Suite 201, Oakland, CA 94607.

Date Revoked: March 4, 2002.

Reason: Surrendered license voluntarily.

License Number: 4294F.

Name: Louis Espinoza dba Royal International Freight Forwarding Company.

Address: 366 Woodlawn Avenue, Jersey City, NJ 07305-1306.

Date Revoked: February 8, 2002.

Reason: Failed to maintain a valid bond.

Sandra L. Kusumoto,
Director, Bureau of Consumer Complaints and Licensing.

[FR Doc. 02-9367 Filed 4-17-02; 8:45 am]

BILLING CODE 6730-01-P